NATIONAL FOUNDATION FOR THE ARTS AND THE HUMANITIES

National Endowment for the Arts; National Council on the Arts 157th Meeting

Pursuant to section 10 (a)(2) of the Federal Advisory Committee Act (Pub. L. 92-463), as amended, notice is hereby given that a meeting of the National Council on the Arts will be held on March 23 and March 24, 2006 in Rooms 527 and M-09 at the Nancy Hanks Center, 1100 Pennsylvania Avenue, NW., Washington, DC 20506.

The Council will meet in closed session on March 23rd, from 12 p.m. to 2 p.m., in Room 527 for discussion of National Medal of Arts nominations. In accordance with the determination of the Chairman of February 27, 2006, this session will be closed to the public pursuant to subsection (c)(6) of section 552b of Title 5, United States Code.

The March 24th meeting, from 9 a.m. to 12:30 p.m. (ending time is approximate), will be open to the public on a space available basis. Following opening remarks and announcements, there will be an update on Congressional/White House activities. The meeting will include three presentations: one on 40 years of NEA support for Design, one on 40 years of NEA support for Music & Opera, and one on the National Initiative The Big Read. There also will be a report on the National Governors Association briefing papers. This will be followed by review and voting on applications and guidelines. The meeting will conclude with general discussion.

If, in the course of the open session discussion, it becomes necessary for the Council to discuss non-public commercial or financial information of intrinsic value, the Council will go into closed session pursuant to subsection (c)(4) of the Government in the Sunshine Act, 5 U.S.C. 552b.

Additionally, discussion concerning purely personal information about individuals, submitted with grant applications, such as personal biographical and salary data or medical information, may be conducted by the Council in closed session in accordance with subsection (c)(6) of 5 U.S.C. 552b.

Any interested persons may attend, as observers, Council discussions and reviews that are open to the public. If you need special accommodations due to a disability, please contact the Office of AccessAbility, National Endowment for the Arts, 1100 Pennsylvania Avenue, NW., Washington, DC 20506, 202/682-5532, TTY-TDD 202/682-5429, at least seven (7) days prior to the meeting.

Further information with reference to this meeting can be obtained from the Office of Communications, National Endowment for the Arts, Washington, DC 20506, at 202/682-5570.

Dated: February 28, 2006.
Kathy Plowitz-Worden,
Panel Coordinator, Office of Guidelines and Panel Operations.

[FR Doc. E6-3103 Filed 3-3-06; 8:45 am]

BILLING CODE 7537-01-P